DEPARTMENT OF HOMELAND SECURITY

Coast Guard

33 CFR Part 117

[Docket No. USCG-2012-0831]

Drawbridge Operation Regulation; Inside Thoroughfare, New Jersey Intracoastal Waterway (NJICW), Atlantic City, NJ

AGENCY: Coast Guard, DHS.

ACTION: Notice of temporary deviation from regulations.

SUMMARY: The Commander, Fifth Coast Guard District, has issued a temporary deviation from the regulation governing the operation of the US40-322 (Albany Avenue) Bridge, at NJICW mile 70.0, across Inside Thoroughfare, in Atlantic City, NJ. This deviation is necessary to facilitate the free movement of contestants over the bridge during the 2012 Atlantic City Triathlon. This deviation allows the draw span of the bridge to remain closed-to-navigation during the event.

DATES: This deviation is effective from 8 a.m. until 12 p.m. on September 15, 2012.

ADDRESSES: Documents mentioned in this preamble as being available in the docket are part of docket USCG-2012-0831 and are available online by going to http://www.regulations.gov, inserting USCG-2012-0831 in the “Keyword” box and then clicking “Search”. This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Terrance Knowles, Environmental Protection Specialist, Fifth Coast Guard District; telephone 757-398-6587, email Terrance.A.Knowles@uscg.mil. If you have questions on viewing the docket, call Renee V. Wright, Program Manager, Docket Operations, telephone 202-366-9826.

SUPPLEMENTARY INFORMATION: The New Jersey Department of Transportation owns and operates this bascule-type drawbridge and has requested a temporary deviation from the current operating regulations set out in 33 CFR 117.733(f) to facilitate the free movement of contestants over the bridge during the 2012 Atlantic City Triathlon.

The US40-322 (Albany Avenue) Bridge, at NJICW mile 70.0 across Inside Thoroughfare in Atlantic City, NJ has a vertical clearance in the closed position to vessels of 10 feet above mean high water.

Under normal operating conditions the draw would open on signal, except that: Year-round, from 11 p.m. to 7 a.m. and from November 1 through March 31 from 3 p.m. to 11 p.m.; the draw need only open if at least four hours notice is given. From June 1 through September 30, from 9 a.m. to 4 p.m. and from 6 p.m. to 9 p.m., the draw need only open on the hour and half hour and from 4 p.m. to 6 p.m., the draw need not open; and on the third or fourth Wednesday of August the draw will open every two hours on the hour from 10 a.m. until 4 p.m. and need not open from 4 p.m. until 8 p.m. to accommodate the annual Air Show.

Under this temporary deviation to facilitate the free movement of contestants during the 2012 Atlantic City Triathlon, the drawbridge will be closed to vessels requiring an opening from 8 a.m. until 12 p.m. (noon) on Saturday, September 15, 2012.

The drawbridge will be able to open in the event of an emergency. Vessels that can pass under the bridge without a bridge opening may do so at all times. Vessels with heights greater than 10 feet would have to use an alternate route. One alternate route is by way of the Atlantic Ocean.

The Coast Guard will inform the users of the waterway through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: August 28, 2012.
G.D. Case,
Captain, U.S. Coast Guard, Fifth Coast Guard District.

[FR Doc. 2012-22158 Filed 9-7-12; 8:45 am]

BILLING CODE 9110-04-P